DEPARTMENT OF THE INTERIOR

Bureau of Ocean Energy Management

[Docket No. BOEM-2013-0008; MMAA104000]

Commercial Wind Lease Issuance and Site Assessment Activities on the Atlantic Outer Continental Shelf (OCS) Offshore Rhode Island and Massachusetts

AGENCY: Bureau of Ocean Energy Management (BOEM), Interior.

ACTION: Notice of the Availability of a revised Environmental Assessment and a Finding of No Significant Impact.

SUMMARY: BOEM has prepared a revised environmental assessment (EA) considering the reasonably foreseeable environmental and socioeconomic impacts of issuing renewable energy leases and subsequent site characterization activities (geophysical, geotechnical, archaeological, and biological surveys needed to develop specific project proposals on those leases) in an identified Wind Energy Area (WEA) on the OCS offshore Rhode Island (RI) and Massachusetts (MA). The revised EA also considers the reasonably foreseeable impacts associated with the approval of site assessment activities (including the installation and operation of meteorological towers and buoys) on the leases that may be issued in the identified WEA.

As a result of the analysis in the revised EA, BOEM issued a Finding of No Significant Impact (FONSI). The FONSI concluded that the reasonably foreseeable impacts associated with the preferred alternative would not significantly impact the environment; therefore, the preparation of an environmental impact statement (EIS) is not required.

The purpose of this notice is to inform the public of the availability of the revised EA and FONSI, which can be accessed online at: http://www.boem.gov/Renewable-Energy-Program/Smart-from-the-Start/Index.aspx.

Authority: This notice is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On July 3, 2012, BOEM published a Notice of Availability (NOA) for an EA, which requested public comments on alternatives considered in the 2012 EA, as well as measures (e.g., limitations on activities based on technology, distance from shore, or timing) that would mitigate impacts to environmental resources and socioeconomic conditions that could result from leasing, site characterization, and site assessment in and around the Call Area (76 FR 51391). The Call Area is located within the Area of Mutual Interest, as described in a Memorandum of Understanding between the Governors of RI and MA dated July 2010.

The 2012 EA considered the entire WEA for leasing and approval of site assessment plans (SAPs) as the proposed action under the National Environmental Policy Act (NEPA) (42 U.S.C. 4321-4370f). Comments received in response to the NOA can be viewed at: http://www.regulations.gov by searching for Docket ID BOEM-2012-0048.

Based on comments received and the results of required consultations (e.g., Endangered Species Act), BOEM has revised the 2012 EA. BOEM will use the revised EA to inform decisions to issue leases in the WEA and to subsequently approve SAPs on those leases. BOEM may issue one or more commercial wind energy leases in the WEA. The competitive lease process is set forth at 30 CFR 585.210-585.225, and the noncompetitive process is set forth at 30 CFR 585.230-585.232 (as amended by a rulemaking effective as of June 15, 2011).

A commercial lease, whether issued through a competitive or non-competitive process, gives the lessee the exclusive right to subsequently seek BOEM approval for the development of the leasehold. The lease does not grant the lessee the right to construct any facilities; rather, the lease grants the right to use the leased area to develop its plans, which BOEM must approve before the lessee may proceed to the next stage of the process. See 30 CFR 585.600 and 585.601. In the event that a particular lease is issued, and the lessee subsequently submits a SAP, BOEM would then determine whether the revised EA adequately considers the impacts of the activities proposed in the lessee's SAP. If BOEM determines that the analysis in the revised EA adequately considers these impacts, then no further analysis under NEPA would be required before BOEM could approve a SAP. If, on the other hand, BOEM determines that the analysis in this revised EA is inadequate for that purpose, BOEM would prepare additional NEPA analysis before it could approve the SAP.

If a lessee is prepared to propose a wind energy generation facility on its lease, it would submit a construction and operations plan (COP). BOEM then would prepare a separate site- and project-specific NEPA analysis of the proposed project. This analysis would likely take the form of an EIS and would provide the public and Federal officials with comprehensive information regarding the reasonably foreseeable environmental and socioeconomic impacts of the proposed project. This analysis would inform BOEM's decision to approve, approve with modification, or disapprove a lessee's COP pursuant to 30 CFR 585.628. This NEPA process also would provide additional opportunities for public involvement pursuant to NEPA and the White House Council on Environmental Quality's regulations at 40 CFR parts 1500-1508.

Dated: April 29, 2013.
Tommy P. Beaudreau,
Director, Bureau of Ocean Energy Management.

[FR Doc. 2013-13199 Filed 6-4-13; 8:45 am]

BILLING CODE 4310-MR-P